DEPARTMENT OF THE INTERIOR

Bureau of Land Management

[ES-930-5420-M082]

Notice of Application for Disclaimer of Interest, Iowa

AGENCY: Bureau of Land Management, Interior.

ACTION: Proposal to issue a disclaimer.

SUMMARY: Jeffrey L. Poulson has filed an application on behalf of Fairview Farms, A Partnership, claiming title to the lands hereinafter described, for a recordable disclaimer of interest from the United States pursuant to the authority of Section 315 of the Federal Land Management Act of 1976 (43 U.S.C. 1745).

FOR FURTHER INFORMATION CONTACT: Regina Berry, Bureau of Land Management, Eastern States, 7450 Boston Boulevard, Springfield, Virginia 22153, 703-440-1547.

SUPPLEMENTARY INFORMATION: Bureau of Land Management has tentatively determined that the United States does not have any interest in the following described land. The land is described according to a private land survey, dated September 6, 1969, filed in the Office of the Clerk, County of Monona, State of Iowa.

Tax Lot “C” of Section Twenty Six (26); Tax Lot “E” of Section Twenty Seven (27); Tax Lot “D” of Section Thirty Three (33); The North Half of the Northeast Quarter (N½NE¼), The Southeast Quarter of the Northwest Quarter (SE¼NW¼), The Southwest Quarter of the Northeast Quarter (SW¼NE¼); Tax Lot “E” Except for the West 700 Feet, Tax Lots “F and H, Except for the West 700 Feet of Section Thirty Four (34); and Tax Lot “B” of Section Thirty Five (35), All in Township Eighty Five (85) North, Range Forty Seven (47) West of the 5th P.M., containing 472.77 acres in Monona County, Iowa.

The above described acreage was formed by accretion to land after the land was selected by the State of Iowa as swamplands and conveyed by the United States to that State, in accordance with the Act of September 28, 1850, by the patent number 2, dated January 10, 1860 and patent number 7, dated February 15, 1869. Accretion is the gradual deposit of soil and other materials along the bank of a body of water adding to the riparian owner's land. If issued the proposed recordable disclaimer of interest will remove a cloud on the title to the accreted land and will state that the United States does not have a valid interest in the accreted land. For a period of 90 days from the Federal Register publication date of this notice, persons who wish to comment or present an objection in connection with the pending application and the proposed disclaimer may do so by writing Ida V. Doup, Chief, Branch of Use Authorization, Bureau of Land Management, Eastern States, 7450 Boston Boulevard, Springfield, Virginia 22153. If no objections are received, the disclaimer will be issued after 90-day period.

Dated: May 6, 2003.
Walter Rewinski,
Acting State Director.

[FR Doc. 03-12059 Filed 5-13-03; 8:45 am]

BILLING CODE 4310-75-P